DEPARTMENT OF THE INTERIOR

Bureau of Reclamation

[FES 05-29]

Humboldt Project Conveyance, Pershing, Churchill and Lander Counties, NV

AGENCY: Bureau of Reclamation, Interior.

ACTION: Notice of availability of the final environmental impact statement (FEIS).

SUMMARY: Pursuant to the National Environmental Policy Act 102(2) of 1969, the Bureau of Reclamation has prepared a FEIS for the Humboldt Project Conveyance, Pershing, Churchill, and Lander Counties, Nevada. The FEIS assesses the impacts of conveying title of the Humboldt Project (Project) and associated lands to the Pershing County Water Conservation District (PCWCD), State of Nevada, Lander County and Pershing County. The action is needed to comply with Title VIII of Pub. L. 107-282 which directs Reclamation to transfer title of the Project to the entities listed above.

DATES: Reclamation will not make a decision on the proposed action until at least 30 days after release of the FEIS. At the end of the 30-day period, Reclamation will complete a Record of Decision (ROD). The ROD will state the action that will be implemented and will discuss all factors leading to the decision.

FOR FURTHER INFORMATION CONTACT: To request a copy of the document, please call (775) 884-8352, or write or e-mail Caryn Huntt DeCarlo, Bureau of Reclamation, Lahontan Basin Area Office, 705 N Plaza, Room 320, Carson City, NV 89701, or e-mail chunttdecarlo@mp.usbr.gov. The FEIS is accessible from the following Web site: http://www.usbr.gov/mp/nepa/nepa_projdetails.cfm?Project_ID=550.

SUPPLEMENTARY INFORMATION: A Notice of Intent to prepare an Environmental Impact Statement was published in the Federal Register on February 26, 2003. A Notice of Availability of the Draft Environmental Impact Statement (DEIS) was published in the Federal Register on January 28, 2005 (70 FR 4149). The written comment period on the DEIS ended on March 28, 2005. The FEIS contains responses to all comments received and reflects comments and any additional information received during the review period.

The Project is located along the Humboldt River in northwestern Nevada. Reclamation began Project construction in 1935 and in 1941 the first water was delivered to agricultural lands in the Lovelock Valley from storage in Rye Patch Reservoir. PCWCD assumed operation of the Project in 1941. PCWCD has had several Project repayment contracts with Reclamation that have all been repaid. Project features include Battle Mountain Community Pasture, Rye Patch Dam and Reservoir, and the Humboldt Sink. Battle Mountain Community Pasture, located near Battle Mountain, is approximately 30,000 acres and is managed for grazing by the PCWCD under a lease agreement with Reclamation. Rye Patch Reservoir is located 26 miles upstream from Lovelock, is 21 miles in length, and has a capacity of 190,000 acre-feet. The State of Nevada manages the recreation at the reservoir under a management agreement with Reclamation and the PCWCD. The Humboldt Sink is also part of the Project and is managed by the State of Nevada under a management agreement with Reclamation.

Public Comment Availability

Our practice is to make comments, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: August 30, 2005.
Kirk C. Rodgers,
Regional Director, Mid-Pacific Region.

[FR Doc. 05-20187 Filed 10-6-05; 8:45 am]

BILLING CODE 4310-MN-P